DEPARTMENT OF AGRICULTURE

Submission for OMB Review; Comment Request

June 22, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: 7 CFR Part 226 Child and Adult Care Food Program.

OMB Control Number: 0584-0055.

Summary of Collection: Section 17 of the National School Lunch Act, as amended (42 U.S.C. 1766), authorizes the Secretary of Agriculture to provide cash reimbursement and commodity assistance, on a per meal basis, for food service to children in nonresidential child care centers and family or group day care homes, and to eligible adults in nonresidential adult day care centers. The Food and Nutrition Service (FNS) has established application, monitoring, recordkeeping, and reporting requirements to manage the Program effectively, and ensure that the legislative intent of this mandate is responsibly implemented.

Need and Use of the Information: The information collected is necessary to enable institutions wishing to participate in the Child and Adult Care Food Program to submit applications to the administering agencies, execute agreements with those agencies, and claim the reimbursement to which they are entitled by law. FNS and State agencies administering the program will use the collected information to determine eligibility of institutions to participate in the program, ensure acceptance of responsibility in managing an effective food service, implement systems for appropriating program funds, and ensure compliance with all statutory and regulatory requirements.

Description of Respondents: Business or other for-profit; State, Local, or Tribal Government; Individuals or households; Not-for-profit institutions.

Number of Respondents: 2,200,066.

Frequency of Responses: Recordkeeping; Reporting: On occasion; Semi-annually; Monthly and Annually.

Total Burden Hours: 7,033,090.

Ruth Brown,
Departmental Information Collection Clearance Officer.

[FR Doc. 2010-15459 Filed 6-24-10; 8:45 am]

BILLING CODE 3410-30-P